NATIONAL SCIENCE FOUNDATION

Advisory Committee for Environmental Research and Education; Notice of Meeting

In accordance with the Federal Advisory Committee Act (Pub. L. 92-463, as amended), the National Science Foundation (NSF) announces the following meeting:

Name and Committee Code: Advisory Committee for Environmental Research and Education (9487).

Date and Time:

November 7, 2024; 10 a.m.-5 p.m. (EDT)

November 8, 2024; 9 a.m.-3:30 p.m. (EDT)

Place: National Science Foundation, 2415 Eisenhower Avenue, Room W-2210/W-2220, Alexandria, VA 22314 | Hybrid.

Hybrid participation is for advisory members and presenters only. Public participants may attend the meeting virtually. Registration for the meeting can be accessed at: https://nsf.zoomgov.com/meeting/register/vJItdOCuqDIqGaAsRJQEqUVk2K_bkTn2F-0.

Type of Meeting: Open.

Contact Person: Dr. Ashley Pierce, Staff Associate, Office of Integrative Activities, Office of the Director, National Science Foundation, 2415 Eisenhower Avenue, Alexandria, VA 22314; (Email: apierce@nsf.gov; Telephone: (703) 292-4493).

Summary of Minutes: May be obtained from the AC ERE website: https://new.nsf.gov/od/oia/advisory-committee-environmental-research.

Purpose of Meeting: To provide advice, recommendations, and oversight concerning support for environmental research and education.

Agenda: Approval of minutes from past meeting. Updates on agency support for environmental research and activities. Discussion with NSF Director. Plan for future advisory committee activities. Updated agenda will be available on the AC ERE website: https://new.nsf.gov/od/oia/advisory-committee-environmental-research.

November 7, 2024

10:00 a.m.-10:15 a.m. Welcoming Remarks

10:15 a.m.-10:45 a.m. NSF Update

10:45 a.m.-11:00 a.m. Break

11:00 a.m.-12:00 p.m. Build a Resilient Planet Update

12:00 p.m.-1:00 p.m. Lunch

1:00 p.m.-2:30 p.m. Strategic Roadmap Discussion

2:30 p.m.-4:00 p.m. NSF Program Updates

4:00 p.m.-4:15 p.m. Committee Business

4:15 p.m.-5:00 p.m. Briefings from Advisory Committee Liaisons

5:00 p.m. Adjourn Day 1

November 8, 2024

9:00 a.m.-10:30 a.m. Strategic Roadmap Work Group

10:30 a.m.-10:45 a.m. Break

10:45 a.m.-11:15 a.m. NSF Environmental Justice Strategic Plan Update

11:15 a.m.-12:00 p.m. Preparation for Discussion with NSF Senior Leadership

12:00 p.m.-1:00 p.m. Lunch

1:00 p.m.-2:00 p.m. Preparation for Discussion with NSF Senior Leadership

2:00 p.m.-2:30 p.m. Discussion with OD

2:30 p.m.-3:30 p.m. Committee Wrap Up and Next Steps

3:30 p.m. Adjourn Day 2

Dated: September 4, 2024.
Crystal Robinson,
Committee Management Officer.

[FR Doc. 2024-20264 Filed 9-6-24; 8:45 am]

BILLING CODE 7555-01-P